DEPARTMENT OF LABOR

Employment and Training Administration

[NAFTA 5827]

Carey Industries, Inc., Danbury, CT; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2273), an investigation was initiated on January 29, 2002 in response to a petition filed by a company official on behalf of workers at Carey Industries, Inc., Danbury, Connecticut.

The petitioner has requested that the petition be withdrawn. Consequently, further investigation in this case would serve no purpose, and the investigation has been terminated.

Signed in Washington, DC, this 5th day of July, 2002.
Linda G. Poole,
Certifying Officer, Division of Trade Adjustment Assistance.

[FR Doc. 02-19970 Filed 8-6-02; 8:45 am]

BILLING CODE 4510-30-P